DEPARTMENT OF TRANSPORTATION

Federal Motor Carrier Safety Administration

[Docket No. FMCSA-2024-0124]

Transparency in Fees Commercial Motor Vehicle Operators Are Charged for Towing and Recovery Services

AGENCY: Federal Motor Carrier Safety Administration (FMCSA), Department of Transportation (DOT).

ACTION: Notice; extension of comment period.

SUMMARY: FMCSA extends the comment period for its May 31, 2024, notice providing interested parties the opportunity to share their perspectives on current industry practices regarding the disclosure of towing fees to the commercial motor vehicle (CMV) owners and whether the owner is made aware of costs and fees prior to the tow. The notice announced a June 21, 2024, public meeting and provided July 1, 2024, as the deadline for the submission of written comments on the subject. FMCSA extends the comment period until August 1, 2024.

DATES: The comment period for the notice published May 31, 2024 at 89 FR 47206, is extended. Written comments concerning the disclosure of towing fees to CMV owners should be submitted by August 1, 2024.

ADDRESSES: You may submit comments identified by Docket Number FMCSA-2024-0124 using any of the following methods:

• Federal eRulemaking Portal: Go to https://www.regulations.gov/docket/FMCSA-2023-0124/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, between 9 a.m. and 5 p.m., Monday through Friday, except Federal holidays.

• Fax: (202) 493-2251.

• Submissions Containing Confidential Business Information (CBI): Brian Dahlin, Chief, Regulatory Evaluation Division, FMCSA, 1200 New Jersey Avenue SE, Washington, DC 20590-0001.

To avoid duplication, please use only one of these four methods. See the “Confidential Business Information” portion of the SUPPLEMENTARY INFORMATION section for instructions on submitting comments.

FOR FURTHER INFORMATION CONTACT: Larry W. Minor, Associate Administrator for Policy, FMCSA, 1200 New Jersey Avenue SE, Washington, DC 20590-0001; (202) 366-4012; larry.minor@dot.gov.

SUPPLEMENTARY INFORMATION:

A. Submitting Comments

If you want to submit a comment on this subject, please include the docket number for this notice (FMCSA-2024-0124). You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2024-0124/document, click on this notice, click “Comment,” and type your comment into the text box on the following screen.

If you submit your comments by mail or hand delivery, submit them in an unbound format, no larger than 8½ by 11 inches, suitable for copying and electronic filing. FMCSA will consider all comments and material received during the comment period.

Confidential Business Information (CBI)

CBI is commercial or financial information that is both customarily and actually treated as private by its owner. Under the Freedom of Information Act (5 U.S.C. 552), CBI is exempt from public disclosure. If your comments responsive to this notice contain commercial or financial information that is customarily treated as private, that you actually treat as private, it is important that you clearly designate the submitted comments as CBI. Please mark each page of your submission that constitutes CBI as “PROPIN” to indicate it contains proprietary information. FMCSA will treat such marked submissions as confidential under the Freedom of Information Act, and they will not be placed in the public docket for this meeting. Submissions containing CBI should be sent to Brian Dahlin, Chief, Regulatory Analysis Division, Office of Policy, FMCSA, 1200 New Jersey Avenue SE, Washington, DC 20590-0001. At this time, you need not send a duplicate hardcopy of your electronic CBI submissions to FMCSA headquarters. Any comments FMCSA receives not specifically designated as CBI will be placed in the public docket for this notice.

B. Viewing Comments and Documents

To view comments, as well as notes from this public meeting, go to https://www.regulations.gov/docket/FMCSA-2024-0124/document and choose the document to review. To view comments, click this notice, and click “Document Comments.” If you do not have access to the internet, you may view the docket online by visiting Dockets Operations on the ground floor of the DOT West Building, 1200 New Jersey Avenue SE, Washington, DC 20590, between 9 a.m. and 5 p.m. ET, Monday through Friday, except Federal holidays. To be sure someone is there to help you, please call (202) 366-9317 or (202) 366-9826 before visiting Dockets Operations.

C. Privacy Act

DOT posts comments received, including any personal information the commenter provides, to www.regulations.gov, as described in the system of records notice (DOT/ALL-14 FDMS), which can be reviewed at www.transportation.gov/privacy. The comments are posted without edit and are searchable by the name of the submitter.

D. Background

FMCSA published a notice concerning transparency in fees CMV operators are charged for towing and recovery services on May 31, 2024 (89 FR 47206). The notice discussed the Federal Trade Commission's (FTC) November 9, 2023, notice of proposed rulemaking, “Rule on Unfair or Deceptive Fees” (88 FR 77420), which would prohibit unfair or deceptive practices relating to fees for goods or services, specifically, misrepresenting the total costs of goods and services by omitting mandatory fees from advertised prices and misrepresenting the nature and purpose of fees. The notice also discussed FMCSA's February 7, 2024, written comments to the FTC rulemaking docket and announced the Agency's June 21, 2024, public meeting concerning transparency in the towing fees CMV owners are charged.

At the June 21 public meeting, certain parties verbally expressed an interest in the Agency extending the deadline for the submission of written comments. FMCSA believes it is in the public interest to allow additional time for interested parties to submit written comments to the docket. Accordingly, FMCSA extends the comment period until August 1, 2024.

Larry W. Minor,
Associate Administrator for Policy.

[FR Doc. 2024-14348 Filed 6-28-24; 8:45 am]

BILLING CODE 4910-EX-P